DEPARTMENT OF COMMERCE

Internation Trade Administration

Antidumping or Countervailing Duty Order, Finding, or Suspended Investigation; Opportunity To Request Administrative Review

Correction

In Notice document 01-16597 beginning on page 34910 in the issue of Monday, July 2, 2001, make the following correction:

On page 34910, in the table the entries for Taiwan through the The People's Republic of China should read as follows:

| Period
Antidumping Duty Proceedings
Taiwan:
Stainless Steel Sheet and Strip in Coils, A-583-831 | 7/1/00-6/30/01
Thailand:
Butt-Weld Pipe Fittings, A-549-807 | 7/1/00-6/30/01
Canned Pineapple, A-549-813 | 7/1/00-6/30/01
Furfuryl Alcohol, A-549-812 | 7/1/00-6/30/01
The People's Republic of China:
Bulk Aspirin, A-570-853 | 1/3/00-6/30/01
Carbon Steel Butt-Weld Pipe Fittings, A-570-814 | 7/1/00-6/30/01
Industrial Nitrocellulose, A-570-802 | 7/1/00-6/30/01
Persulfates, A-570-847 | 7/1/00-6/30/01
Sebacic Acid, A-570-825 | 7/1/00-6/30/01

[FR Doc. C1-16597 Filed 7-23-01; 8:45 am]

BILLING CODE 1505-01-D